DEPARTMENT OF JUSTICE

Notice of Lodging of Consent Decree Pursuant to the Comprehensive Environmental Response, Compensation, and Liability Act

Notice is hereby given that on July 15, 2010, a proposed consent decree in United States, et al. v. PPL Electric Utilities Corporation, et al., Civil Action No. 10-cv-3477, was lodged with the United States District Court for the Eastern District of Pennsylvania.

The proposed consent decree resolves claims that the United States filed under Sections 106 and 107(a) of CERCLA, 42 U.S.C. 9606 and 9607(a), for performance of work and reimbursement of costs incurred and to be incurred in connection with response actions at the UGI Columbia Gas Plant Superfund Site (“Site”) in Columbia Borough, Lancaster County, Pennsylvania. Under the proposed consent decree, the Settling Defendants, PPL Electric Utilities Corporation and UGI Utilities Inc., will reimburse the United States $606,114.53 for past response costs, will pay future response costs to be incurred by the United States, and will perform long-term monitoring, operation, and maintenance of the remedy for the Site. The proposed consent decree also resolves the Commonwealth of Pennsylvania's claims for past response costs under the Pennsylvania Hazardous Sites Cleanup Act (“HSCA”), 35 P.S. § 6020.101, et eq., for an amount of $17,430.94.

The Department of Justice will receive, for a period of thirty (30) days from the date of this publication comments relating to the proposed consent decree. Comments should be addressed to the Assistant Attorney General, Environment and Natural Resources Division, and either e-mailed to pubcomment-ees.enrd@usdoj.gov or mailed to P.O. Box 7611, U.S. Department of Justice, Washington, DC, 20044-7611, and should refer to United States, et al. v. PPL Electric Utilities Corporation, et al., DOJ No. 90-11-3-09216.

The proposed consent decree may be examined at the office of the United States Attorney's Office, 615 Chestnut Street, Suite 1250, Philadelphia, PA 19106 and at U.S. EPA Region III, 1650 Arch Street, Philadelphia, PA 19103. During the public comment period, the proposed consent decree may also be examined on the following Department of Justice Web site, http://www.usdoj.gov/endr/Consent_Decrees.html. A copy of the proposed consent decree may be obtained in person or by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $___, (25 cents per page reproduction cost) payable to the U.S. Treasury or, if by e-mail or fax, forward a check in that amount to the Consent Decree Library at the stated address.

Maureen Katz,
Assistant Section Chief, Environmental Enforcement Section, Environment & Natural Resources Division.

[FR Doc. 2010-18440 Filed 7-27-10; 8:45 am]

BILLING CODE 4410-15-P